NUCLEAR REGULATORY COMMISSION

[Docket No. 50-483]

Union Electric Company; Notice of Withdrawal of Application for Amendment to Facility Operating License

The U.S. Nuclear Regulatory Commission (the Commission) has granted the request of Union Electric Company (the licensee) to withdraw its application dated October 3, 2002, as supplemented by letter dated June 5, 2003, for proposed amendment to Facility Operating License No. NPF-30 for the Callaway Plant, Unit 1, located in Callaway County, Missouri.

The proposed amendment would have revised the definition of steam generator (SG) tube inspection in Technical Specification 5.5.9, “Steam Generator (SG) Tube Surveillance Program.” The amendment would add a requirement for using the rotating pancake coil (RPC) to the H* depth in the tubesheet.

The Commission had previously issued a Notice of Consideration of Issuance of Amendment published in the Federal Register on October 18, 2002 (67 FR 64422). However, as stated in the staff's letter dated September 15, 2003, the licensee has agreed to withdraw the proposed change.

For further details with respect to this action, see the application for amendment dated October 3, 2002, as supplemented by the licensee's letter dated June 5, 2003, and the staff's letter dated September 15, 2003. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the Internet at the NRC Web site, http://www.nrc.gov/reading-rm/adams/html. Persons who do not have access to ADAMS or who encounter problems in accessing the documents located in ADAMS, should contact the NRC PDR Reference staff by telephone at 1-800-397-4209, or 301-415-4737 or by e-mail to pdr@nrc.gov.

Dated at Rockville, Maryland, this 15th day of September, 2003.
For the Nuclear Regulatory Commission.
Jack Donohew,
Senior Project Manager, Section 2, Project Directorate IV, Division of Licensing Project Management, Office of Nuclear Reactor Regulation.

[FR Doc. 03-25744 Filed 10-9-03; 8:45 am]

BILLING CODE 7590-01-P